DEPARTMENT OF COMMERCE

International Trade Administration

[A-570-912]

Certain New Pneumatic Off-the-Road Tires From the People's Republic of China: Notice of Correction to the Partial Rescission of the Antidumping Duty Administrative Review; 2017-2018

AGENCY: Enforcement and Compliance, International Trade Administration, Department of Commerce.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION:

Correction

On April 5, 2019, the Department of Commerce (Commerce) published the partial rescission of the 2017-2018 antidumping duty administrative review of certain new pneumatic off-the-road tires from the People's Republic of China (China).¹ In that notice, Commerce inadvertently misspelled the name of one of the respondents for which it intended to rescind the review, as Lianzhou Xiongying Industry Co., Ltd.² The correct spelling of the name of the respondent is Laizhou Xiongying Rubber Industry Co., Ltd. Additionally, Commerce stated that the review will continue with respect to Honghua Tyre, Zhongwei, and Super Grip.³ However, Commerce clarifies that Super Grip is a U.S. importer that requested review of Zhongwei and is not under review in the underlying proceeding.⁴

¹ See Certain New Pneumatic Off-the-Road Tires from the People's Republic of China: Notice of Partial Rescission of the Antidumping Duty Administrative Review; 2017-2018, 84 FR 13633 (April 5, 2019) (Partial Rescission).

² Id. at 13634.

³ Id.

⁴ Id. at 13634 n.2; see also Initiation of Antidumping and Countervailing Duty Administrative Reviews, 83 FR 45888, 57414 (November 15, 2018) (identifying the companies for which Commerce initiated a review).

This correction to the Partial Rescission is published in accordance with sections 751(a)(1) and 777(i)(1) of the Tariff Act of 1930, as amended.

Dated: April 9, 2019.
Gary Taverman,
Deputy Assistant Secretary for Antidumping and Countervailing Duty Operations, performing the non-exclusive functions and duties of the Assistant Secretary for Enforcement and Compliance.

[FR Doc. 2019-07427 Filed 4-12-19; 8:45 am]

BILLING CODE 3510-DS-P